DEPARTMENT OF TREASURY

Submission for OMB Review; Comment Request

March 16, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 23, 2004 to be assured of consideration.

Bureau of the Public Debt (PD)

OMB Number: 1535-0023.

Form Number: PD F 4000.

Type of Review: Extension.

Title: Request to Reissue United States Savings Bonds.

Description: Form is used by owners to identify the securities involved and to establish authority to reissue them.

Respondents: Individuals or households.

Estimated Number of Respondents: 600,000.

Estimated Burden Hours Per Respondent: 30 minutes.

Frequency of Response: On occasion.

Estimated Total Reporting Burden Hours: 300,000 hours.

OMB Number: 1535-0042.

Form Number: PD F 2216.

Type of Review: Extension.

Title: Application by Preferred Creditor for Disposition without Administration Where deceased Owner's Estate Includes Securities Not Exceeding $500.

Description: Used by preferred creditor of decedent's estate to request payment of bonds/checks not exceeding $500.

Respondents: Individuals or households, Business or other for-profit.

Estimated Number of Respondents: 5,000.

Estimated Burden Hours Per Respondent: 10 minutes.

Frequency of Response: On occasion.

Estimated Total Reporting Burden Hours: 835 hours.

OMB Number: 1535-0062.

Form Number: PD F 2966.

Type of Review: Extension.

Title: Special Bond of Indemnity by Purchaser of United States Savings Bonds/Notes Involved in a Chain Letter Scheme.

Description: Used by the purchaser of savings bonds in a chain letter scheme to request refund purchase price of the bonds.

Respondents: Individuals or households.

Estimated Number of Respondents: 5,000.

Estimated Burden Hours Per Respondent: 8 minutes.

Frequency of Response: On occasion.

Estimated Total Reporting Burden Hours: 665 hours.

OMB Number: 1535-0096.

Form Number: PD F 1993.

Type of Review: Extension.

Title: Reinvestment Application.

Description: Used to request proceeds of matured Series H Savings Bonds be reinvested in Series HH Savings Bonds.

Respondents: Individuals or households.

Estimated Number of Respondents: 20,000.

Estimated Burden Hours Per Respondent: 15 minutes.

Frequency of Response: On occasion.

Estimated Total Reporting Burden Hours: 5,000 hours.

OMB Number: 1535-0127.

CFR Part: CFR Part 343.

Type of Review: Extension.

Title: Offering of U.S. Mortgage Guaranty Insurance Company Tax and Loss Bonds.

Description: Regulations governing the issue, reissue, and redemption of U.S. Mortgage Guaranty Insurance Company Tax and Loss Bonds.

Respondents: Business or other for-profit.

Estimated Number of Respondents: 37.

Estimated Burden Hours Per Respondent: 15 minutes.

Frequency of Response: On occasion.

Estimated Total Reporting Burden Hours: 20 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury PRA Clearance Officer.

[FR Doc. 04-6539 Filed 3-23-04; 8:45 am]

BILLING CODE 4810-39-P